DEPARTMENT OF THE INTERIOR

National Park Service

[NPS-PWR-PWRO-11651;PPPWOLYMS1]

Notice of Intent To Prepare an Environmental Impact Statement for the Wilderness Stewardship Plan, Olympic National Park, Clallam, Grays Harbor, Jefferson and Mason County, WA

AGENCY: National Park Service, Interior.

ACTION: Notice of Intent.

SUMMARY: In accordance with § 102(2)(C) of the National Environmental Policy Act of 1969 (Pub. L. 91-190) Olympic National Park is initiating the conservation planning and environmental impact analysis process required to inform consideration of alternative strategies for the future management of the Olympic Wilderness. In November 1988, Congress designated about 95% (876,669 acres) of park lands as the Olympic Wilderness. Through this planning process a Wilderness Stewardship Plan (WSP) and Environmental Impact Statement (EIS) will be developed to provide guidance and direction to meet the requirements of the Wilderness Act of 1964 and 2006 NPS Management Policies, as well as to implement actions identified in the park's 2008 General Management Plan (GMP). This process will include identifying and analyzing a range of alternatives for achieving wilderness stewardship objectives and conducting wilderness eligibility studies for areas identified in the GMP Record of Decision (2008). The WSP will identify standards, conditions, and thresholds to preserve wilderness character, protect cultural and natural resources, and adhere to legally mandated management and preservation requirements.

DATES: All comments must be postmarked or transmitted not later than April 23, 2013.

SUPPLEMENTARY INFORMATION: When Olympic National Park approved the Record of Decision for the GMP/Final EIS in August 2008 (the approved GMP is available at http://parkplanning.nps.gov/documentsList.cfm?projectID=10233), the final plan provided broad direction for wilderness stewardship at the park, with the overarching vision to ensure that the park's wilderness resources and character are valued, enjoyed, protected, preserved, and restored for the benefit of current and future generations. The GMP committed to development of a detailed WSP for specific management actions for wilderness based on the desired conditions and strategies prescribed in the GMP. Accordingly, the WSP will provide detailed guidance on a variety of topics including, but not limited to: wildlife management, cultural resource management, trail maintenance, trail bridges, and other necessary infrastructure in wilderness, day use and overnight use in wilderness, wilderness permitting, use of campfires, proper food storage, human waste management, stock use, group and party size, camping and camp areas, ecological restoration and rehabilitation in wilderness, scientific research activities, and commercial services.

To inform development of the WSP, the park will host a series of public scoping meetings, which are expected to occur in Clallam, Jefferson, Grays Harbor, Kitsap, and Mason Counties, and the greater Seattle area during January through March 2013. Confirmed details on dates, times, and locations of these meetings will be published in a newsletter, announced via local and regional newspapers, and posted online on the wilderness plan Web site http://parkplanning.nps.gov/olymwild. The purpose of the public scoping meetings is to obtain pertinent environmental information, as well as to identify park stakeholder issues and concerns that should be addressed in the WSP. After the public scoping period is complete and the NPS has reviewed and considered all comments, a scoping report will be prepared and posted on the wilderness plan Web site; also, printed copies may be obtained by contacting the park (see contact information below).

Following the scoping phase, the wilderness planning team will develop preliminary alternatives for wilderness stewardship. The preliminary range of alternatives will be released for public review and comment prior to the park's determination or development of the agency-preferred alternative. Notification of the opportunity to review and comment on the preliminary alternatives will be published in local and regional newspapers, announced via direct mailings from the park, and posted online at the wilderness plan Web site.

Following the preliminary alternatives outreach effort, the park will undertake preparation of the Draft EIS. The complete range of stewardship alternatives (including a “no action” baseline alternative) will be identified and analyzed, potential environmental consequences of each alternative (and appropriate conservation and mitigation strategies) will be assessed, and both the “environmentally preferred” course of action and “agency preferred” alternative will be identified.

The status of the overall EIS process will be updated periodically on the wilderness plan Web site. If you would like to be added to the project mailing list, you may mail or fax your request to the address or number noted above. Please indicate if you prefer to receive a printed or compact disk copy of the Draft EIS when it is released, or if you only wish to receive a notice that the document is available for review on the wilderness plan Web site.

How to Provide Scoping Comments: To ensure your information is fully considered, please provide your response either electronically at the wilderness plan Web site http://parkplanning.nps.gov/olymwild, or you may mail or fax your written comments to Superintendent Sarah Creachbaum, Olympic National Park, Attn: Wilderness Stewardship Plan, 600 East Park Ave., Port Angeles, WA 98362, Fax (360) 565-3015. Written comments may also be hand-delivered at any of the public scoping meetings. Comments in any format (written or electronic) submitted by an individual or organization on behalf of another individual or organization will not be accepted.

Before including your address, phone number, email address, or other personal identifying information in your comment, you should be aware that your entire comment—including your personal identifying information—may be made publicly available at any time. While you can request in your comment that your personal identifying information be withheld from public review, the NPS cannot guarantee that we would be able to do so.

Decision Process: After the analysis of all responses and information received during the scoping period, a Draft EIS will be prepared (at this time, release of the document is expected to occur during Winter 2014). Subsequently, a Final EIS will be prepared after consideration of all comments received. Thereafter, but not sooner than 30 days after the release of the Final EIS, a Record of Decision will be prepared. Because this is a delegated EIS, the official responsible for final approval of the WSP/EIS is the Regional Director, Pacific West Region. Thereafter, the official responsible for implementation of the approved wilderness plan is the Superintendent, Olympic National Park.

Dated: February 7, 2013.
Christine S. Lehnertz,
Regional Director, Pacific West Region.

[FR Doc. 2013-04129 Filed 2-21-13; 8:45 am]

BILLING CODE 4312-FF-P